DEPARTMENT OF COMMERCE

National Oceanic and Atmospheric Administration

50 CFR Part 679

[Docket No. 011218304-1304-01; I.D. 111802A]

Fisheries of the Exclusive Economic Zone Off Alaska; Reallocation of Pacific Cod in the Bering Sea and Aleutian Islands Management Area

AGENCY: National Marine Fisheries Service (NMFS), National Oceanic and Atmospheric Administration (NOAA), Commerce.

ACTION: Reallocation.

SUMMARY: NMFS is reallocating the projected unused amount of Pacific cod from vessels using pot and trawl gear to catcher/processor vessels using hook-and-line gear in the BSAI. These actions are necessary to allow the 2002 total allowable catch (TAC) of Pacific cod to be harvested.

DATES: Effective November 20, 2002, until 2400 hours, A.l.t., December 31, 2002.

FOR FURTHER INFORMATION CONTACT: Andrew Smoker, 907-586-7228.

SUPPLEMENTARY INFORMATION: NMFS manages the groundfish fishery in the BSAI exclusive economic zone according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

On October 2, 2002 (67 FR 61826), the harvest specifications for Pacific cod established by the emergency rule implementing 2002 harvest specifications and associated management measures for the groundfish fisheries off Alaska (67 FR 956, January 8, 2002 and 67 FR 34860, May 16, 2002) were revised as follows: 300 mt to vessels using jig gear, 81,920 mt to catcher processor vessels using hook-and-line gear, 482 mt to catcher vessels using hook-and-line gear, 17,535 mt to vessels using pot gear, 40,475 mt to trawl catcher/processors, and 42,475 mt to trawl catcher vessels.

As of November 8, 2002, the Administrator, Alaska Region, NMFS (Regional Administrator), has determined that trawl catcher/processors will not be able to harvest 3,500 mt and trawl catcher vessels will not be able to harvest 1,000 mt of Pacific cod allocated to those vessels under § 679.20(a)(7)(i)(B). Therefore, in accordance with § 679.20(a)(7)(ii)(C), NMFS apportions 4,500 mt of Pacific cod from trawl gear to catcher/processor vessels using hook-and-line gear.

The Regional Administrator determined that vessels using pot gear will not be able to harvest 3,500 of their Pacific cod allocation by the end of the year. Therefore, in accordance with §679.20(a)(7)(ii)(C), NMFS is reallocating the unused amount of 3,500 mt of Pacific cod allocated to vessels using pot gear to catcher/processor vessels using hook-and-line gear.

The harvest specifications for Pacific cod established by the emergency rule implementing 2002 harvest specifications and associated management measures for the groundfish fisheries off Alaska (67 FR 956, January 8, 2002, and 67 FR 34860, May 16, 2002) and the reallocation of Pacific cod in the Bering Sea and Aleutian Islands management area (67 FR 61826, October 2, 2002) are revised as follows: 89,920 mt to catcher processor vessels using hook-and-line gear, 14,035 mt to pot gear, 36,975 mt to trawl catcher/processors, and 41,475 mt to trawl catcher vessels.

Classification

This action responds to the best available information recently obtained from the fishery. The Assistant Administrator for Fisheries, NOAA, finds good cause to waive the requirement to provide prior notice and opportunity for public comment pursuant to the authority set forth at 5 U.S.C. 553(b)(B) as such requirement is contrary to the public interest. This requirement is contrary to the public interest as it would delay the implementation of these measures in a timely fashion in order to allow full utilization of the Pacific cod TAC, and therefore reduce the public's ability to use the fishery resource.

The Assistant Administrator for Fisheries, NOAA, also finds good cause to waive the 30-day delay in the effective date of this action under 5 U.S.C. 553(d)(3). This finding is based upon the reasons provided above for waiver of prior notice and opportunity for public comment.

This action is taken under 50 CFR 679.20 and is exempt from OMB review under Executive Order 12866.

Authority: 16 U.S.C. 1801 et seq.

Dated: November 19, 2002.
Richard W. Surdi,
Acting Director, Office of Sustainable Fisheries, National Marine Fisheries Service.

[FR Doc. 02-29891 Filed 11-20-02; 4:27 pm]

BILLING CODE 3510-22-S